DEPARTMENT OF THE INTERIOR

Bureau of Land Management

[BLM_UT_FRN_MO4500176714]

Notice of Public Meeting, Grand Staircase-Escalante National Monument Advisory Committee, Utah

AGENCY: Bureau of Land Management, Interior.

ACTION: Notice of meetings.

SUMMARY: In accordance with the Federal Land Policy and Management Act of 1976, as amended, the Federal Advisory Committee Act of 1972, and the Federal Lands Recreation Enhancement Act, the U.S. Department of the Interior, Bureau of Land Management's (BLM's) Grand Staircase-Escalante National Monument Advisory Committee will meet as indicated below.

DATES: The Grand Staircase-Escalante National Monument Advisory Committee will hold a virtual meeting on February 29, 2024. The meeting will be held from 9 a.m. to 12:15 p.m. Mountain Time (MT) and is open to the public. A public comment period will be held from 10:45 a.m. to 11:30 a.m. MT, or until all public comments have concluded, whichever comes first.

ADDRESSES: The agenda and meeting access information (including how to log in and participate in virtual meetings) will be announced on the Grand Staircase-Escalante National Monument Advisory Committee web page 30 days before the meeting at https://bit.ly/3QGqaqJ.

FOR FURTHER INFORMATION CONTACT: David Hercher, Paria River District Public Affairs Specialist, 669 S. Highway 89A, Kanab, UT 84741, via email with the subject line “GSENM MAC” to dhercher@blm.gov or by calling the Grand Staircase-Escalante National Monument Office at (435) 644-1200. Individuals in the United States who are deaf, deafblind, hard of hearing, or have a speech disability may dial 711 (TTY, TDD, or TeleBraille) to access telecommunications relay services. Individuals outside the United States should use the relay services offered within their country to make international calls to the point of contact in the United States. Please request sign language interpreter services, assistive listening devices, or other reasonable accommodations early. Please contact the person listed above at least 7 days before the meeting to give the Department of the Interior sufficient time to process your request. All reasonable accommodation requests will be managed on a case-by-case basis.

SUPPLEMENTARY INFORMATION: Presidential Proclamations 6920 and 10286 established the Grand Staircase-Escalante National Monument Advisory Committee to provide advice and information to the Secretary of the Interior (through the Director of the BLM) to consider the management of Grand Staircase-Escalante National Monument. The 15-member committee represents a wide range of interests, including Tribal, local, and State governments; the educational community; the conservation community; an outfitter and guide operating within the monument; a livestock grazing permittee operating within the monument; a dispersed recreation representative; and members with expertise in paleontology, archaeology, geology, botany or wildlife, history or social science, and systems ecology.

Planned agenda items for the February meeting include:

• Administrative business

• A status update on the monument resource management plan

• A public comment period

• Election of the advisory committee chairperson

The BLM welcomes comments from all interested parties and the meeting will include a public comment period from 10:45 a.m. to 11:30 a.m. MT or until all public comments have concluded, whichever comes first. Written comments may also be sent to the Grand Staircase-Escalante National Monument at the address listed in this notice's FOR FURTHER INFORMATION CONTACT section. All comments received before the meeting will be provided to the Grand Staircase-Escalante National Monument Advisory Committee.

Before including your address, phone number, email address, or other personal identifying information in your comment, you should be aware that your entire comment—including your personal identifying information—may be made publicly available at any time. While you can ask us in your comment to withhold your personal identifying information from public review, we cannot guarantee we will be able to do so.

Detailed meeting notes for the Grand Staircase-Escalante National Monument Advisory Committee meeting will be maintained in the Paria River District Office and available for public inspection and reproduction during regular business hours within 90 days following the meeting. Minutes will also be posted to the Grand Staircase-Escalante National Monument Advisory Committee web page.

(Authority: 43 CFR 1784.4-2)

Gregory Sheehan,
State Director.

[FR Doc. 2024-00906 Filed 1-17-24; 8:45 am]

BILLING CODE 4331-25-P